DEPARTMENT OF TRANSPORTATION

Federal Aviation Administration

14 CFR Part 39

[Docket No. 2001-CE-14-AD; Amendment 39-12164; AD 2001-06-17]

RIN 2120-AA64

Airworthiness Directives; Cessna Aircraft Company Models 172R and 172S Airplanes

AGENCY: Federal Aviation Administration, DOT.

ACTION: Final rule; correction.

SUMMARY: This document makes a correction to Airworthiness Directive (AD) 2001-06-17, which was published in the Federal Register on March 30, 2001 (66 FR 17345), and concerns certain Cessna Aircraft Company (Cessna) Models 172R and 172S airplanes. The FAA incorrectly referenced the AD number as “AD 2001-06-14” instead of “AD 2001-06-17.” This AD requires a one-time inspection for proper engine idle speed and fuel control mixture setting, adjustment as necessary, and incorporation of engine operating procedures into the pilots operating handbook (POH) and FAA-approved airplane flight manual (AFM). This action corrects the AD to reflect the correct AD number.

EFFECTIVE DATE: The effective date of this AD remains April 20, 2001.

FOR FURTHER INFORMATION CONTACT: Mr. Paul Pendleton, Aerospace Engineer, Wichita Aircraft Certification Office, FAA, 1801 Airport Road, Mid-Continent Airport, Wichita, Kansas 67209; telephone: (316) 946-4143; facsimile: (316) 946-4407.

SUPPLEMENTARY INFORMATION:

Discussion

On March 24, 2001, FAA issued AD 2001-06-17, Amendment 39-12164 (66 FR 17345, March 30, 2001), which applies to certain Cessna Models 172R and 172S airplanes. The AD currently requires a one-time inspection for proper engine idle speed and fuel control mixture setting and adjustment, as necessary. This AD also requires incorporating engine operating procedures into the POH/AFM.

Need for the Correction

We incorrectly referenced the AD number as “AD 2001-06-14” instead of “AD 2001-06-17.” If we did not correct the AD number, then the logbooks of the affected airplane would reference compliance with the wrong AD.

Correction of Publication

Accordingly, the publication of March 30, 2001 (66 FR 17345), of Amendment 39-12164; AD 2001-06-17, which was the subject of FR Doc. 01-7831, is corrected as follows:

§ 39.13 [Corrected]

On page 17346, in § 39.13, in the third column, the 22nd line from the bottom of the page, correct “2001-06-14” to “2001-06-17”.

Action is taken herein to correct this reference in AD 2001-06-17 and to add this AD correction to § 39.13 of the Federal Aviation Regulations (14 CFR 39.13).

The effective date remains April 20, 2001.

Issued in Kansas City, Missouri, on April 4, 2001.
Michael Gallagher,
Manager, Small Airplane Directorate, Aircraft Certification Service.

[FR Doc. 01-8746 Filed 4-9-01; 8:45 am]

BILLING CODE 4910-13-P